DEPARTMENT OF THE INTERIOR

Bureau of Land Management

[NM-220-08-1110-CB]

Notice of Shooting, Glass Container, and Vehicle Parking Closure; La Cienega Area of Critical Environmental Concern, Santa Fe County, NM

AGENCY: Bureau of Land Management (BLM), DOI.

ACTION: Notice of Emergency Shooting, Glass Container, and Vehicle Closure at La Cienega Area of Critical Environmental Concern (ACEC), Santa Fe County, New Mexico.

SUMMARY: This notice places restrictions on shooting, with the exception of valid legal hunting approved by New Mexico Game and Fish Department, the possession of glass containers on specific public lands administered by the BLM Taos Field Office in Santa Fe County, New Mexico; an area of approximately 530 acres referred to as the La Cienega ACEC. This action is necessary to halt ongoing impacts and prevent future degradation of cultural resources and protect the public safety of users on the public lands; pending revision of the Resource Management Plan (RMP) for this area administered by the BLM Taos Field Office.

DATES: This notice is effective July 1, 2008, and shall remain in effect until modified or the RMP is revised.

FOR FURTHER INFORMATION CONTACT: Sam DesGeorges, Taos Field Manager, BLM Taos Field Office, 226 Cruz Alta Road, Taos, New Mexico 87571, telephone 575-758-8851.

SUPPLEMENTARY INFORMATION: The Taos RMP (1988, as amended) identified La Cienega ACEC, which included La Cieneguilla Petroglyph Site. In 2004, the Galisteo Basin Archaeological Sites Protection Act became public law (Public Law 108-208—March 19, 2004) and included La Cieneguilla Petroglyph site. This Act's purpose is to “provide for the preservation, protection, and interpretation of these nationally significant archaeological resources.”

La Cieneguilla Petroglyph site has received damage by deliberate shooting of petroglyphs and some inadvertent damage by the shooting of clay pigeons with shotguns on the mesa/canyon rims. Target shooting in the immediate vicinity, using rock or vegetation as the only backdrop, is causing an immediate threat to public safety. A highway, parking area for La Cieneguilla Petroglyph site, hiking paths, two-track vehicle routes, and nearby residences are subject to stray or ricocheting bullets, some of which can carry up to two or more miles in distance. In addition, trash accumulation from items being used as targets (television sets, household items, etc.) and spent brass and shotgun shells are impacting these public lands.

Glass containers are a problem in this area, both as a littering problem and a safety problem. La Cieneguilla Petroglyph site is located along a volcanic cliff wall with large boulders at the cliff base. Glass containers inadvertently break by accidentally being dropped. The majority of glass containers are purposely thrown onto the rocks or used as targets for firearms. The broken glass adversely affects public use of this area, detracting from the petroglyphs. Additionally, the broken glass is a hazard to vehicles, domestic animals, and wildlife.

Use and visitation of La Cieneguilla Petroglyph site has significantly increased after passage of the Galisteo Basin Archaeological Sites Protection Act. Educational field trips, including public schools and museums, are common place as well as the general public interested in this nationally recognized petroglyph site.

The BLM recently constructed a parking area for access to La Cieneguilla Petroglyph Site along Santa Fe County Road 56 (Paseo Real). This closure order prohibits parking on BLM-administered lands along Via de los Romero, immediately adjacent to La Cieneguilla Petroglyph Site, to encourage visitors to use one preferred access trail from the BLM parking area.

Shooting is defined in this order as the discharging of any projectile by means including, but not limited to, firearms (including rifle, shotgun, handgun, BB-gun, pellet gun, etc.), bows, cross bows, paintball guns, or sling-shot type devices.

This closure is in accordance with the provisions of the Federal Land Policy and Management Act of 1976 (Public Law 94-579, 90 stat. 2743, 43 U.S.C. 1701) and Title 43, Subpart 8364.1 of the U.S. Code of Federal Regulations (CFR). Maximum penalties are $1,000.00 fine and/or 12 months in prison.

Maps depicting the area affected by this closure are available for public inspection at the BLM Taos Field Office, 226 Cruz Alta Road, Taos, New Mexico, and the New Mexico BLM State Office, 1474 Rodeo Road, Santa Fe, New Mexico.

Dated: June 18, 2008.
Sam DesGeorges,
Taos Field Manager.

[FR Doc. E8-14527 Filed 6-25-08; 8:45 am]

BILLING CODE 4310-OW-P